DEPARTMENT OF VETERANS AFFAIRS

[OMB Control No. 2900-0724]

Agency Information Collection (FVECF) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before July 22, 2009.

ADDRESSES: Submit written comments on the collection of information through http://www.Regulations.gov or to VA's OMB Desk Officer, Office of Information and Regulatory Affairs, New Executive Office Building, Room 10235, Washington, DC 20503, (202) 395-7316. Please refer to “OMB Control No. 2900-0724” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0724.”

SUPPLEMENTARY INFORMATION:

Title: Statement in Support of Claim (Filipino Veterans Equity Compensation Fund), VA Form 21-4138(CF).

OMB Control Number: 2900-0724.

Type of Review: Extension of a currently approved collection.

Abstract: Veterans who served in the organized military forces of the Government of the Commonwealth of the Philippines, including certain service in the Philippine Scouts or in organized guerrilla forces recognized by the United States Army, while such forces were in the service of the Armed Forces of the United States, are entitled to a one-time payment from the Filipino Veterans Equity Compensation Fund. The veteran must be honorably discharged and served before July 1, 1946 to receive the one-time payment. Applicants seeking this one-time payment must complete VA Form 21-4138(CF) to determine eligibility and file their claim on or before February 16, 2010.

An agency may not conduct or sponsor, and a person is not required to respond to a collection of information unless it displays a currently valid OMB control number. The Federal Register Notice with a 60-day comment period soliciting comments on this collection of information was published on April 15, 2009, at page 17554.

Affected Public: Individuals or households.

Estimated Annual Burden: 1,500 hours.

Estimated Average Burden per Respondent: 5 minutes.

Frequency of Response: One time.

Estimated Number of Respondents: 18,000.

Dated: June 16, 2009.
By direction of the Secretary.
Denise McLamb,
Program Analyst, Enterprise Records Service.

[FR Doc. E9-14519 Filed 6-19-09; 8:45 am]

BILLING CODE 8320-01-P